DEPARTMENT OF AGRICULTURE

Agricultural Marketing Service

[Docket Number FV-04-304]

United States Standards for Grades of Mangos

AGENCY: Agricultural Marketing Service, USDA.

ACTION: Reopening and extension of the comment period.

SUMMARY: Notice is hereby given that the comment period on the proposed United States Standards for Mangos is reopened and extended.

DATES: Comments must be received by August 30, 2005.

ADDRESSES: Interested persons are invited to submit written comments to the Standardization Section, Fresh Products Branch, Fruit and Vegetable Programs, Agricultural Marketing Service, U.S. Department of Agriculture, 1400 Independence Ave., SW., Room 1661, South Building, Stop 0240, Washington, DC 20250-0240, fax (202) 720-8871, e-mail FPB.DocketClerk@usda.gov. Comments should make reference to the dates and page number of this issue of the Federal Register and will be made available for public inspection in the above office during regular business hours and on the Internet.

The draft of the United States Standards for Grades of Mangos is available by accessing AMS's Home Page on the Internet at: http://www.ams.usda.gov/fv/fpbdocketlist.htm.

FOR FURTHER INFORMATION CONTACT: David L. Priester, at the above address or call (202) 720-2185; e-mail David.Priester@usda.gov.

SUPPLEMENTARY INFORMATION: A notice was published in the Federal Register, March 11, 2005, (70 FR 12173) requesting comments on the proposed United States Standards for Grades of Mangos. The proposed standards include: Grades, sizes, tolerances, application of tolerances, definitions, and a table of defects. Additionally, the Agricultural Marketing Service (AMS) is seeking comments regarding any other revisions that may be necessary to better serve the industry. The comment period ended May 10, 2005.

A comment was received from an industry association, representing independent produce wholesale receivers, expressing the need for additional time to comment. The association requested the comment period be extended to allow the association an opportunity to meet with their members to discuss the impact of the proposed standards.

After reviewing the request, AMS is reopening and extending the comment period in order to allow sufficient time for interested persons, including the association, to file comments.

Authority: 7 U.S.C. 1621-1627.

Dated: June 27, 2005.
Kenneth C. Clayton,
Acting Administrator, Agricultural Marketing Service.

[FR Doc. 05-12968 Filed 6-30-05; 8:45 am]

BILLING CODE 3410-02-P